DEPARTMENT OF JUSTICE

Notice of Lodging of Consent Decree Under the Clean Water Act

Notice is hereby given that on August 28, 2000, a proposed Consent Decree in United States v. MHC Operating Limited Partnership and United States v. MHC Financing Limited Partnership (N.D. Indiana), Civil Action Nos. 200CV509 and 200CV510, was lodged with the United States District Court for the Northern District of Indiana.

This Consent Decree represents a settlement of claims brought against defendants (“Settling Defendants”) in the above-referenced actions brought under Section 301 of the Clean Water Act, 33 U.S.C. 1311, for discharging effluent from two separate sewage treatment facilities without a valid permit or in violation of applicable permit limits. the Settling Defendants are MHC Operating Limited Partnership, Manufactured Home Communities, Inc., MHC Financing Limited Partnership, and MHC-QRS, Inc.

Under the proposed settlement, the Settling Defendants will be required to pay a civil penalty of $765,000 for past violations of the Clean Water Act. The proposed settlement also requires Manufactured Home Communities, Inc. and MHC Operating Limited Partnership to comply with the NPDES permit for its sewage treatment facility in Chesterton, Indiana. Because the sewage treatment facility operated by MHC-QRS, Inc. and MHC Financing Limited Partnership has connected to the City of Portage sewer system and no longer discharges pollutants directly to waters of the United States, the proposed settlement does not include similar requirements for that facility.

The Department of Justice will receive for a period of thirty (30) days from the date of this publication comments relating to the Consent Decree. Comments should be addressed to the Assistant Attorney General, Environment and Natural Resources Division, P.O. Box 7611, U.S. Department of Justice, Washington, D.C. 20044-7611, and should refer to United States v. MHC Operating Limited Partnership and United States v. MHC Financing Limited Partnership (N.D. Indiana), D.J. Ref. 90-5-1-1-4496 and 90-5-1-1-4496A.

The Consent Decree may be examined at the Office of the United States Attorney, 1001 Main Street, Suite A, Dyer, Indiana 46311-1234, and at U.S. EPA Region 5, 77 West Jackson Boulevard, Chicago, Illinois 60604. A copy of the Consent Decree may also be obtained by mail from the Consent Decree Library, P.O. Box 7611, U.S. Department of Justice, Washington, D.C. 20044-7611. In requesting a copy, please enclose a check in the amount of $7.00 (25 cents per page reproduction cost) payable to the Consent Decree Library.

Walker B. Smith,
Deputy Chief, Environmental Enforcement Section, Environment and Natural Resources Division.

[FR Doc. 00-22671 Filed 9-1-00; 8:45 am]

BILLING CODE 4410-15-M